DEPARTMENT OF STATE

[Public Notice: 11705]

Determination With Respect to Assistance to Afghanistan Consistent With the Trafficking Victims Protection Act of 2000

Consistent with section 110 of the Trafficking Victims Protection Act of 2000 (22 U.S.C. 7107) (the “Act”) and Presidential Memorandum dated December 21, 2021, I hereby determine:

• That a partial waiver of the restriction described in section 110(d)(1)(A)(i) of the Act with respect to Afghanistan to allow for Economic Support Fund and Global Health Programs assistance would promote the purposes of the Act or is otherwise in the national interest of the United States; and

• That providing the assistance described in section 110(d)(1)(B) of the Act to Afghanistan would promote the purposes of the Act or is otherwise in the national interest of the United States.

This determination, along with the accompanying certification required by section 110(e) of the Act, and the Memorandum of Justification, on which I have relied, shall be transmitted to Congress, and the determination shall be published in the Federal Register.

Dated: March 24, 2022.
Antony J. Blinken,
Secretary of State.

[FR Doc. 2022-07305 Filed 4-5-22; 8:45 am]

BILLING CODE 4710-31-P